DEPARTMENT OF COMMERCE

National Oceanic and Atmospheric Administration

RIN 0648-XE825

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Teams will meet September 13 through September 16, 2016.

DATES: The meeting will be held on Tuesday, September 13, 2016 to Friday, September 16, 2016, from 8 a.m. to 5 p.m.

ADDRESSES: The meeting will be held at the Alaska Fishery Science Center Traynor Room 2076 and NMML Room 2079, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Tuesday, September 13, 2016 to Friday, September 16, 2016

The Plan Teams will review the preliminary stock assessments for Groundfish and receive the following reports: Halibut DMR, research priorities, and Economic Stock Assessment and Fishery Evaluation (SAFE).

The Agenda is subject to change, and the latest version will be posted at http://www.npfmc.org

Special Accommodations

The meeting is physically accessible to people with disabilities. Requests for sign language interpretation or other auxiliary aids should be directed to Shannon Gleason at (907) 271-2809 at least 7 working days prior to the meeting date.

Dated: August 17, 2016.
Tracey L. Thompson,
Acting Deputy Director, Office of Sustainable Fisheries, National Marine Fisheries Service.

[FR Doc. 2016-19951 Filed 8-19-16; 8:45 am]

BILLING CODE 3510-22-P